DEPARTMENT OF EDUCATION

[CFDA 84.060A]

Grants and Cooperative Agreements; Availability, etc.: Elementary and Secondary Education—Indian Education Formula Grants to Local Educational Agencies

AGENCY: Office of Elementary and Secondary Education, Office of Indian Education.

ACTION: Notice inviting applications, including applications for Integration of Services projects under section 7116 of the Elementary and Secondary Education Act of 1965 (ESEA), as amended, for awards for fiscal year (FY) 2003, Indian Education Formula Grants to Local Educational Agencies.

Purpose of Program: The Indian Education Formula Grants program provides grants to support local educational agencies (LEAs) in their efforts to reform and improve elementary and secondary school programs that serve Indian students. The programs funded are to be based on challenging State academic content and student academic achievement standards used for all students, and be designed to assist Indian students to meet those standards. Under section 7116 of ESEA, Integration of Services, the Indian Education Formula Grants program also authorizes the consolidation of funds for any Federal program exclusively serving Indian children, or the funds reserved under any Federal program to exclusively serve Indian children, that are awarded under a statutory or administrative formula, for the purposes of providing education and related services that would be used to serve Indian students. Instructions for an Integration of Services project are included in the application package.

Eligible Applicants: LEAs and certain schools funded by the Bureau of Indian Affairs; and Indian tribes under certain conditions, as prescribed by statute in ESEA section 7112(c).

Applications Available: Applications were mailed May 27, 2003. To request a copy of the application, see the contact information under the “For Applications or Information Contact” heading.

Deadline for Transmittal of Applications: July 23, 2003. Applications not meeting the deadline will not be considered for funding in the initial allocation of awards. However, if funds become available after the initial allocation of funds, applications not meeting the deadline may be considered for funding if the Secretary determines, under section 7118(d) of ESEA, that reallocation of those funds to late applicants would best assist in advancing the purposes of the program. However, the amount and date of an individual award, if any, may be less than the applicant would have received had the application been submitted on time.

Deadline for Intergovernmental Review: August 22, 2003.

Available Funds: The appropriation for this program for FY 2003 is $96,501,636, which should be sufficient to fund all eligible applicants.

Estimated Range of Awards: $4,000 to $2,210,000.

Estimated Average Size of Awards: $75,040.

Estimated Number of Awards: 1,286.

Note: The Department is not bound by any estimates in this notice.

Project Period: Up to 48 months for new applications.

Budget Requirement: All projects with budgets of $115,000 or more are encouraged to plan and budget for one person to attend a one-day Project Directors' meeting to be held in Greensboro, NC in November 2003. Other projects not meeting that level of funding specified may attend at their discretion.

Applicable Regulations: The Education Department General Administrative Regulations (EDGAR) in 34 CFR parts 75, 77, 79, 80, 81, 82, 85, 86, 97, 98, and 99.

For Applications or Information Contact: Cathie Martin, Office of Indian Education, U.S. Department of Education, 400 Maryland Avenue, SW., Room 3W115, Washington, DC 20202-6335. Telephone: (202) 260-3774. An electronic version of the application is available at: http://www.ed.gov/offices/OESE/oie/index.html.

Individuals who use a telecommunications device for the deaf (TDD) may call the Federal Information Relay Service (FIRS) at 1-800-877-8339.

Individuals with disabilities may obtain this document in an alternative format (e.g., Braille, large print, audiotape, or computer diskette) on request of the person listed in the preceding paragraph.

Individuals with disabilities may obtain a copy of the application package in an alternative format, also, by contacting that person. However, the Department is not able to reproduce in an alternative format the standard forms included in the application package.

Electronic Access to This Document

You may review this document, as well as all other Department of Education documents published in the Federal Register, in text or Adobe Portable Document Format (PDF) on the Internet at the following site: http://www.ed.gov/legislation/FedRegister.

To use PDF you must have Adobe Acrobat Reader, which is available free this previous site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 7421.

Dated: June 17, 2003.
Eugene Hickok,
Under Secretary.

[FR Doc. 03-15808 Filed 6-20-03; 8:45 am]

BILLING CODE 4000-01-P